DEPARTMENT OF THE INTERIOR

National Park Service

[N6847; NPS-WASO-NAGPRA-NPS0041753; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of sacred objects and that have a cultural affiliation with the Indian Tribes or Native Hawaiian organizations in this notice.

DATES: Repatriation of the cultural items in this notice may occur on or after February 12, 2026.

ADDRESSES: Send additional, written requests for repatriation of the cultural items in this notice to Kirsten Twork, Sonoma State University, 1801 East Cotati Avenue, Rohnert Park, CA 94928, email tworkk@sonom.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of two lots of cultural items have been requested for repatriation. One lot of sacred objects was removed from its deposition during the Hoopa Timber Ranch Survey, located in Hoopa Valley, Humboldt county California. Information as to why the cultural item was removed from its original location was not found. The lot of cultural items are modified stone tools. The item has been housed at Sonoma State University since 1976.

One lot of sacred objects was removed from its deposition during the Hoopa Valley Timber Sale #1, located in Hoopa Valley, Humboldt county California. Information as to why the cultural item was removed from its original location was not found. The lot of cultural items are modified stone tools. The item has been housed at Sonoma State University since 1978.

In the case of missing cultural items, any additional items when located will also be repatriated from the collections discussed above. Based on records concerning the cultural items and the institution in which they are housed, there is no evidence of the items being treated with hazardous substances.

Determinations

The Sonoma State University has determined that:

• The two lots of sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Hoopa Valley Tribe, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 12, 2026. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: January 5, 2026.
Melanie O'Brien,
Manager, National NAGPRA Program.

[FR Doc. 2026-00457 Filed 1-12-26; 8:45 am]

BILLING CODE 4312-52-P